FEDERAL TRADE COMMISSION

16 CFR Part 305

RIN 3084-AB03

Energy Labeling Rule

AGENCY: Federal Trade Commission.

ACTION: Final rule; correction.

SUMMARY: The Federal Trade Commission (“Commission”) is correcting a final rule published in the Federal Register of August 12, 2014, which amends the Energy Labeling Rule by updating comparability ranges for certain heating and cooling products and making conforming changes to the Rule's sample labels.

DATES: Effective Date: September 4, 2014.

FOR FURTHER INFORMATION CONTACT: Hampton Newsome, Attorney, Division of Enforcement, Bureau of Consumer Protection, Federal Trade Commission, Washington, DC 20580; (202) 326-2889.

SUPPLEMENTARY INFORMATION: This document corrects tables and sample labels for central air conditioners in the August 12, 2014, final rule document (79 FR 46985) amending the Energy Labeling Rule (“Rule”), 16 CFR part 305. Specifically, this document corrects the lower range numbers for several central air conditioner categories to reflect new DOE minimum conservation standards scheduled for January 1, 2015, adds range numbers for space-constrained and small-duct, high-velocity product categories omitted from the tables in the final rule document,¹ and makes conforming corrections to the range numbers on the sample labels.

¹ In a January 25, 2013 final rule document (78 FR 8362), the Commission announced that it would add ranges to the Rule for space-constrained products and small-duct, high-velocity systems.

In FR Doc. 2014-18501, appearing in the Federal Register of Tuesday, August 12, 2014 (79 FR 46985), the following corrections are made:

Appendix H to Part 305 [Corrected]

1. On page 46986, the table in Appendix H to Part 305 is corrected to read as follows:

Manufacturer's rated cooling capacity (Btu's/hr.) | Range of SEER's: Low | Range of SEER's: High
Single Package Units
Central Air Conditioners (Cooling Only): All capacities | 14 | 20
Heat Pumps (Cooling Function): All capacities | 14 | 18.1
Split System Units
Central Air Conditioners (Cooling Only): All capacities | 13 | 26
Heat Pumps (Cooling Function): All capacities | 14 | 30.5
Small-duct, high-velocity Systems | 12 | 12.5
Space-constrained Products
Central Air Conditioners (Cooling Only): All capacities | 12 | 14
Heat Pumps (Cooling Function): All capacities | 12 | 14

Appendix I to Part 305 [Corrected]

2. On pages 46986 through 46987, the table in Appendix I to Part 305 is corrected to read as follows:

Manufacturer's rated heating capacity (Btu's/hr.) | Range of HSPF's: Low | Range of HSPF's: High
Single Package Units
Heat Pumps (Heating Function): All capacities | 8.0 | 9.2
Split System Units
Heat Pumps (Heating Function): All capacities | 8.2 | 13.5
Small-duct, high-velocity Systems | 7.2 | 7.2
Space-Constrained Products
Heat Pumps (Heating Function): All capacities | 7.4 | 7.6

Appendix L to Part 305 [Corrected]

3. On pages 46988 through 46992, Prototype Labels 3 and 4 and Sample Labels 7, 7A, and 8 are corrected to read as follows:

BILLING CODE 6750-01-P

By direction of the Commission.
Janice Podoll Frankle,
Acting Secretary.

[FR Doc. 2014-20842 Filed 9-3-14; 8:45 am]

BILLING CODE 6750-01-C